OFFICE OF SCIENCE AND TECHNOLOGY POLICY

Nanotechnology Commercialization Success Stories

ACTION: Request for information.

SUMMARY: The purpose of this Request for Information (RFI) is to seek examples of commercialization success stories stemming from U.S. Government-funded nanotechnology research and development (R&D) since the inception of the National Nanotechnology Initiative (NNI) in 2001. The information gathered in response to this RFI may be used as examples to highlight the impact of the Initiative or to inform future activities to promote the commercialization of federally funded nanotechnology R&D. Depending on the nature of the feedback, responses may be used to shape the agenda for a workshop to share best practices and showcase commercial nanotechnology-enabled products and services. Commercial entities, academic institutions, government laboratories, and individuals who have participated in federally funded R&D; collaborated with Federal laboratories; utilized federally funded user facilities for nanoscale fabrication, characterization, and/or simulation; or have otherwise benefited from NNI agency resources are invited to respond.

DATES: Responses are requested by February 29, 2016.

ADDRESSES: You may submit responses by any of the following methods (email is preferred):

• Email: NNISuccessStories@nnco.nano.gov. Include [NNI Success Story] in the subject line of the message.

• Mail: Mike Kiley, National Nanotechnology Coordination Office, ATTN: RFI0116, 4201 Wilson Blvd., Stafford II, Suite 405, Arlington, VA 22230. If submitting a response by mail, allow sufficient time for mail processing.

Instructions: Submissions are limited to five pages, one of which we strongly recommend be an overview slide using the template provided at www.nano.gov/NNISuccessStories. Responses must be unclassified and should not contain any sensitive personally identifiable information (such as home address or social security number), or information that might be considered proprietary or confidential). Please include a contact name, email address, and/or phone number in case clarification of details in your submission is required.

Disclaimer: Federal agencies may or may not use any responses to this RFI as a basis for subsequent projects, programs, or funding opportunities. Responses to this RFI will not be returned. The Office of Science and Technology Policy is under no obligation to acknowledge receipt of the information received, or to provide feedback to respondents with respect to any information submitted under this RFI. Respondents to this RFI will have no competitive advantage in receiving any future awards.

FOR FURTHER INFORMATION CONTACT: Mike Kiley, (703) 292-4399, NNISuccessStories@nnco.nano.gov, National Nanotechnology Coordination Office. Any requests for clarification must be received no later than seven (7) business days prior to the close of this RFI in order to receive a timely response.

SUPPLEMENTARY INFORMATION:

Background Information: The National Nanotechnology Initiative (NNI), established in 2001, is a U.S. Government research and development (R&D) initiative of 20 Federal departments, independent agencies, and independent commissions (hereafter referred to as “agencies”) working together toward the common challenging vision of a future in which the ability to understand and control matter at the nanoscale leads to a revolution in technology and industry that benefits society (see www.nano.gov). Over the life of the NNI, participating agencies have invested a total of $22 billion in nanotechnology research, development, and commercialization; their combined, coordinated efforts have accelerated the discovery, development, and deployment of nanotechnology to address agency mission goals and broader national needs.

One of the four goals of the NNI is to foster the transfer of new technologies into products for commercial and public benefit. Recent external assessments of the NNI by the President's Council of Advisors for Science and Technology (PCAST) have highlighted the need to better assess and highlight the Initiative's progress towards this goal. While there are a number of excellent examples of nanotechnology-based commercial products, the purpose of this RFI is to collect more comprehensive information about the impact of NNI investments on nanotechnology commercialization. This RFI seeks to collect examples of commercial products or services attributable at least in part to the NNI, through direct funding of the developer and/or a collaborator, the use of federally funded facilities, or based at least in part on intellectual property or specific research results that arose from Federal investment in nanotechnology.

The feedback received may be used to inform strategic activities to further foster nanotechnology commercialization. Depending on the nature of the feedback, responses may also be used to shape the agenda for a workshop to share best practices and showcase examples of successful transfer of nanotechnology from lab to market, and respondents may be invited to this and other events related to nanotechnology commercialization. In addition, information gained from this RFI may be used to update commercialization activities and goals in the 2016 NNI Strategic Plan, and may be incorporated into future NNI reports, publications, public remarks, and other materials.

Information Requested: The National Nanotechnology Coordination Office seeks examples of nanotechnology commercialization success stories enabled by Federal investments under the auspices of the NNI. Examples should include a description of the nanotechnology-enabled product or service, key things that led to commercialization success, the role nanotechnology plays in the product, and how the Federal Government helped make success possible, including the following details:

• Description of the nanotechnology-enabled product or service.

• Success story details, which may include but are not limited to: Companies formed; jobs created; collaborations with larger companies or research institutions; revenues; patent applications or patents granted; and/or awards.

• Role of the U.S. Government in commercial success. The Government role could include direct funding of research and development; collaboration with Federal laboratories; use of federally funded user facilities for nanoscale fabrication, characterization, and/or simulation; or other benefits from NNI agency resources.

Ted Wackler,
Deputy Chief of Staff and Assistant Director.

[FR Doc. 2016-01521 Filed 2-1-16; 8:45 am]

BILLING CODE 3270-F6-P